DEPARTMENT OF LABOR

Employment and Training Administration

Labor Surplus Area Classification Under Executive Orders 12073 and 10582

AGENCY: Employment and Training Administration, Labor.

ACTION: Notice.

SUMMARY: The purpose of this notice is to announce the annual list of labor surplus areas for Fiscal Year (FY) 2011.

DATES: Effective Date: The annual list of labor surplus areas is effective October 1, 2010, for all states, the District of Columbia, and Puerto Rico.

FOR FURTHER INFORMATION CONTACT: Samuel Wright, Office of Workforce Investment, Employment and Training Administration, 200 Constitution Avenue, NW., Room S-4231, Washington, DC 20210. Telephone: (202) 693-2870 (This is not a toll-free number).

SUPPLEMENTARY INFORMATION: The Department of Labor's regulations implementing Executive Orders 12073 and 10582 are set forth at 20 CFR Part 654, Subparts A and B. These regulations require the Employment and Training Administration (ETA) to classify jurisdictions as labor surplus areas pursuant to the criteria specified in the regulations and to publish annually a list of labor surplus areas. Pursuant to those regulations, ETA is hereby publishing the annual list of labor surplus areas.

In addition, the regulations provide exceptional circumstance criteria for classifying labor surplus areas when catastrophic events, such as natural disasters, plant closings, and contract cancellations are expected to have a long-term impact on labor market area conditions, discounting temporary or seasonal factors.

Eligible Labor Surplus Areas

A Labor Surplus Area (LSA) is a civil jurisdiction that has a civilian average annual unemployment rate during the previous two calendar years of 20 percent or more above the average annual civilian unemployment rate for all states during the same 24-month reference period. Only official unemployment estimates provided to ETA by the Bureau of Labor Statistics are used in making these classifications. The average unemployment rate for all States includes data for the Commonwealth of Puerto Rico. The basic LSA classification criteria include a “floor unemployment rate” (6.0%) and a “ceiling unemployment rate” (10.0%).

Civil jurisdictions are defined as follows:

(a) A city of at least 25,000 population on the basis of the most recently available estimates from the Bureau of the Census; or

(b) A town or township in the States of Michigan, New Jersey, New York, or Pennsylvania of 25,000 or more population and which possess powers and functions similar to those of cities; or

(c) A county, except those counties which contain any type of civil jurisdictions defined in A or B above; or

(d) A “balance of county” consisting of a county less any component cities and townships identified in paragraphs A or B above; or

(e) A county equivalent which is a town in the States of Connecticut, Massachusetts, and Rhode Island, or a municipio in the Commonwealth of Puerto Rico.

Procedures for Classifying Labor Surplus Areas

The Department of Labor (DOL) issues the labor surplus area list on a fiscal year basis. The list becomes effective each October 1 and remains in effect through the following September 30. The reference period used in preparing the current list was January 2008 through December 2009. The national average unemployment rate during this period was 7.6 percent. Twenty percent higher than the national unemployment rate of 7.6 percent is a qualifying rate of 9.1 percent. Therefore, areas included on the FY 2011 labor surplus area list had an average unemployment rate of 9.1 percent or above during the reference period. When a civil jurisdiction is part of a county and meets the unemployment qualifier as a labor surplus area, then the balance of county will be used if the balance of county also meets the unemployment criteria of a labor surplus area. Several areas not on this labor surplus list have current unemployment rates that are substantially higher than the unemployment qualifier of 9.1 percent. Most of these areas experienced unemployment rates that were considerably lower than the labor surplus qualifier of 9.1 percent for the first two quarters of 2008. The unemployment rates for most of these areas did not become significantly higher than 9.1 percent until the fourth quarter of 2008 causing the unemployment rate for the reference period to be lower than 9.1 percent. The FY 2011 labor surplus area list can be accessed at the ETA's LSA Web site at http://www.doleta.gov/programs/lsa.cfm. This year ETA added to the LSA Web site a map of the labor surplus areas, the geography definition of the balance of counties and Frequently Asked Questions.

Petition for Exceptional Circumstance Consideration

The classification procedures also provide for the designation of labor surplus areas under exceptional circumstance criteria. These procedures permit the regular classification criteria to be waived when an area experiences a significant increase in unemployment which is not temporary or seasonal and which was not reflected in the data for the 2-year reference period. Under the program's exceptional circumstance procedures, labor surplus area classifications can be made for civil jurisdictions, Metropolitan Statistical Areas or Primary Metropolitan Statistical Areas, as defined by the Office of Management and Budget. In order for an area to be classified as a labor surplus area under the exceptional circumstance criteria, the state workforce agency must submit a petition requesting such classification to the Department of Labor's ETA. The current criteria for an exceptional circumstance classification are: an area's unemployment rate of at least 9.1 percent for each of the three most recent months; a projected unemployment rate of at least 9.1 percent for each of the next 12 months; and documentation that the exceptional circumstance event has already occurred. The state workforce agency may file petitions on behalf of civil jurisdictions, as well as Metropolitan Statistical Areas or Micropolitan Statistical Areas. The addresses of state workforce agencies are available on the ETA Web site at: http://www.doleta.gov/programs/lsa.cfm. State Workforce Agencies may submit petitions in electronic format to wright.samuel.e@dol.gov, or in hard copy to the U.S. Department of Labor, Employment and Training Administration, Office of Workforce Investment, 200 Constitution Avenue, NW., Room S-4231, Washington, DC 20210. Data collection for the petition is approved under OMB 1205-0207, expiration date March 31, 2012.

Signed at Washington, DC, this 5th day of October 2010.
Jane Oates,
Assistant Secretary for Employment and Training Administration.

Labor Surplus Areas
[October 1, 2010 through September 30, 2011]
Eligible labor surplus areas | Civil jurisdictions included
Alabama
Anniston City, AL | Calhoun County, AL
Balance of Dallas County, AL | Dallas County, AL
Barbour County, AL | Barbour County, AL
Bessemer City, AL | Jefferson County, AL
Bullock County, AL | Bullock County, AL
Butler County, AL | Butler County, AL
Chambers County, AL | Chambers County, AL
Choctaw County, AL | Choctaw County, AL
Clarke County, AL | Clarke County, AL
Clay County, AL | Clay County, AL
Conecuh County, AL | Conecuh County, AL
Coosa County, AL | Coosa County, AL
DeKalb County, AL | DeKalb County, AL
Escambia County, AL | Escambia County, AL
Fayette County, AL | Fayette County, AL
Franklin County, AL | Franklin County, AL
Gadsden City, AL | Etowah County, AL
Greene County, AL | Greene County, AL
Hale County, AL | Hale County, AL
Lamar County, AL | Lamar County, AL
Lawrence County, AL | Lawrence County, AL
Lowndes County, AL | Lowndes County, AL
Marengo County, AL | Marengo County, AL
Marion County, AL | Marion County, AL
Monroe County, AL | Monroe County, AL
Perry County, AL | Perry County, AL
Pickens County, AL | Pickens County, AL
Prichard City, AL | Mobile County, AL
Randolph County, AL | Randolph County, AL
Russell County, AL | Russell County, AL
Selma City, AL | Dallas County, AL
Sumter County, AL | Sumter County, AL
Talladega County, AL | Talladega County, AL
Tallapoosa County, AL | Tallapoosa County, AL
Washington County, AL | Washington County, AL
Wilcox County, AL | Wilcox County, AL
Winston County, AL | Winston County, AL
Alaska
Bethel Census Area, AK | Bethel Census Area, AK
Dillingham Census Area, AK | Dillingham Census Area, AK
Nome Census Area, AK | Nome Census Area, AK
Northwest Arctic Borough, AK | Northwest Arctic Borough, AK
Prince of Wales-Outer Ketchikan Census Area, AK | Prince of Wales-Outer Ketchikan Census Area, AK
Skagway-Hoonah-Angoon Census Area, AK | Skagway-Hoonah-Angoon Census Area, AK
Southeast Fairbanks Census Area, AK | Southeast Fairbanks Census Area, AK
Wade Hampton Census Area, AK | Wade Hampton Census Area, AK
Wrangell-Petersburg Census Area, AK | Wrangell-Petersburg Census Area, AK
Yakutat Borough/City, AK | Yakutat Borough/City, AK
Yukon-Koyukuk Census Area, AK | Yukon-Koyukuk Census Area, AK
Arizona
Apache County, AZ | Apache County, AZ
Balance of Maricopa County, AZ | Maricopa County, AZ
Balance of Pinal County, AZ | Pinal County, AZ
Balance of Yuma County, AZ | Yuma County, AZ
El Mirage City, AZ | Maricopa County, AZ
Graham County, AZ | Graham County, AZ
Greenlee County, AZ | Greenlee County, AZ
Maricopa City, AZ | Pinal County, AZ
Navajo County, AZ | Navajo County, AZ
Santa Cruz County, AZ | Santa Cruz County, AZ
Yuma City, AZ | Yuma County, AZ
Arkansas
Arkansas County, AR | Arkansas County, AR
Chicot County, AR | Chicot County, AR
Clay County, AR | Clay County, AR
Desha County, AR | Desha County, AR
El Dorado City, AR | Union County, AR
Mississippi County, AR | Mississippi County, AR
Pine Bluff City, AR | Jefferson County, AR
St. Francis County, AR | St. Francis County, AR
West Memphis City, AR | Crittenden County, AR
Woodruff County, AR | Woodruff County, AR
California
Adelanto City, CA | San Bernardino County, CA
Alpine County, CA | Alpine County, CA
Amador County, CA | Amador County, CA
Anaheim City, CA | Orange County, CA
Antioch City, CA | Contra Costa County, CA
Apple Valley Town, CA | San Bernardino County, CA
Atwater City, CA | Merced County, CA
Azusa City, CA | Los Angeles County, CA
Balance of Butte County, CA | Butte County, CA
Balance of Fresno County, CA | Fresno County, CA
Balance of Imperial County, CA | Imperial County, CA
Balance of Kern County, CA | Kern County, CA
Balance of Kings County, CA | Kings County, CA
Balance of Merced County, CA | Merced County, CA
Balance of Riverside County, CA | Riverside County, CA
Balance of Sacramento County, CA | Sacramento County, CA
Balance of San Benito County, CA | San Benito County, CA
Balance of San Bernardino County, CA | San Bernardino County, CA
Balance of San Joaquin County, CA | San Joaquin County, CA
Balance of Shasta County, CA | Shasta County, CA
Balance of Stanislaus County, CA | Stanislaus County, CA
Balance of Sutter County, CA | Sutter County, CA
Balance of Tulare County, CA | Tulare County, CA
Balance of Yolo County, CA | Yolo County, CA
Baldwin Park City, CA | Los Angeles County, CA
Banning City, CA | Riverside County, CA
Beaumont City, CA | Riverside County, CA
Bell City, CA | Los Angeles County, CA
Bell Gardens City, CA | Los Angeles County, CA
Bellflower City, CA | Los Angeles County, CA
Calaveras County, CA | Calaveras County, CA
Calexico City, CA | Imperial County, CA
Carson City, CA | Los Angeles County, CA
Cathedral City, CA | Riverside County, CA
Ceres City, CA | Stanislaus County, CA
Chico City, CA | Butte County, CA
Chino City, CA | San Bernardino County, CA
Chula Vista City, CA | San Diego County, CA
Coachella City, CA | Riverside County, CA
Colton City, CA | San Bernardino County, CA
Colusa County, CA | Colusa County, CA
Compton City, CA | Los Angeles County, CA
Corcoran City, CA | Kings County, CA
Cudahy City, CA | Los Angeles County, CA
Del Norte County, CA | Del Norte County, CA
Delano City, CA | Kern County, CA
East Palo Alto City, CA | San Mateo County, CA
El Cajon City, CA | San Diego County, CA
El Centro City, CA | Imperial County, CA
El Dorado County, CA | El Dorado County, CA
El Monte City, CA | Los Angeles County, CA
Eureka City, CA | Humboldt County, CA
Fairfield City, CA | Solano County, CA
Fontana City, CA | San Bernardino County, CA
Fresno City, CA | Fresno County, CA
Gilroy City, CA | Santa Clara County, CA
Glenn County, CA | Glenn County, CA
Hanford City, CA | Kings County, CA
Hawthorne City, CA | Los Angeles County, CA
Hayward City, CA | Alameda County, CA
Hemet City, CA | Riverside County, CA
Hesperia City, CA | San Bernardino County, CA
Highland City, CA | San Bernardino County, CA
Hollister City, CA | San Benito County, CA
Huntington Park City, CA | Los Angeles County, CA
Imperial Beach City, CA | San Diego County, CA
Indio City, CA | Riverside County, CA
Inglewood City, CA | Los Angeles County, CA
La Puente City, CA | Los Angeles County, CA
Lake County, CA | Lake County, CA
Lake Elsinore City, CA | Riverside County, CA
Lancaster City, CA | Los Angeles County, CA
Lassen County, CA | Lassen County, CA
Lawndale City, CA | Los Angeles County, CA
Lemon Grove City, CA | San Diego County, CA
Lincoln City, CA | Placer County, CA
Lodi City, CA | San Joaquin County, CA
Lompoc City, CA | Santa Barbara County, CA
Long Beach City, CA | Los Angeles County, CA
Los Angeles City, CA | Los Angeles County, CA
Los Banos City, CA | Merced County, CA
Lynwood City, CA | Los Angeles County, CA
Madera City, CA | Madera County, CA
Manteca City, CA | San Joaquin County, CA
Mariposa County, CA | Mariposa County, CA
Maywood City, CA | Los Angeles County, CA
Merced City, CA | Merced County, CA
Modesto City, CA | Stanislaus County, CA
Modoc County, CA | Modoc County, CA
Montclair City, CA | San Bernardino County, CA
Montebello City, CA | Los Angeles County, CA
Moreno Valley City, CA | Riverside County, CA
Morgan Hill City, CA | Santa Clara County, CA
National City, CA | San Diego County, CA
Norwalk City, CA | Los Angeles County, CA
Oakland City, CA | Alameda County, CA
Ontario City, CA | San Bernardino County, CA
Oxnard City, CA | Ventura County, CA
Palmdale City, CA | Los Angeles County, CA
Paramount City, CA | Los Angeles County, CA
Perris City, CA | Riverside County, CA
Pittsburg City, CA | Contra Costa County, CA
Plumas County, CA | Plumas County, CA
Pomona City, CA | Los Angeles County, CA
Porterville City, CA | Tulare County, CA
Rancho Cordova City, CA | Sacramento County, CA
Redding City, CA | Shasta County, CA
Rialto City, CA | San Bernardino County, CA
Richmond City, CA | Contra Costa County, CA
Riverside City, CA | Riverside County, CA
Sacramento City, CA | Sacramento County, CA
Salinas City, CA | Monterey County, CA
San Bernardino City, CA | San Bernardino County, CA
San Jacinto City, CA | Riverside County, CA
San Jose City, CA | Santa Clara County, CA
San Pablo City, CA | Contra Costa County, CA
Sanger City, CA | Fresno County, CA
Santa Ana City, CA | Orange County, CA
Santa Maria City, CA | Santa Barbara County, CA
Santa Paula City, CA | Ventura County, CA
Sierra County, CA | Sierra County, CA
Siskiyou County, CA | Siskiyou County, CA
Soledad City, CA | Monterey County, CA
South Gate City, CA | Los Angeles County, CA
Stanton City, CA | Orange County, CA
Stockton City, CA | San Joaquin County, CA
Suisun City, CA | Solano County, CA
Tehama County, CA | Tehama County, CA
Trinity County, CA | Trinity County, CA
Tulare City, CA | Tulare County, CA
Tuolumne County, CA | Tuolumne County, CA
Turlock City, CA | Stanislaus County, CA
Twentynine Palms City, CA | San Bernardino County, CA
Vallejo City, CA | Solano County, CA
Victorville City, CA | San Bernardino County, CA
Watsonville City, CA | Santa Cruz County, CA
West Sacramento City, CA | Yolo County, CA
Woodland City, CA | Yolo County, CA
Yuba City, CA | Sutter County, CA
Yuba County, CA | Yuba County, CA
Colorado
Commerce City, CO | Adams County, CO
Dolores County, CO | Dolores County, CO
Connecticut
Bridgeport City, CT | Bridgeport City, CT
Hartford City, CT | Hartford City, CT
New Britain City, CT | New Britain City, CT
New Haven City, CT | New Haven City, CT
Waterbury City, CT | Waterbury City, CT
Delaware
Wilmington City, DE | New Castle County, DE
Florida
Balance of Broward County, FL | Broward County, FL
Balance of Flagler County, FL | Flagler County, FL
Balance of Lee County, FL | Lee County, FL
Balance of Marion County, FL | Marion County, FL
Balance of Palm Beach County, FL | Palm Beach County, FL
Balance of Sarasota County, FL | Sarasota County, FL
Balance of St. Lucie County, FL | St. Lucie County, FL
Balance of Volusia County, FL | Volusia County, FL
Cape Coral City, FL | Lee County, FL
Charlotte County, FL | Charlotte County, FL
Citrus County, FL | Citrus County, FL
Collier County, FL | Collier County, FL
De Land City, FL | Volusia County, FL
Deltona City, FL | Volusia County, FL
Dixie County, FL | Dixie County, FL
Fort Pierce City, FL | St. Lucie County, FL
Hamilton County, FL | Hamilton County, FL
Hendry County, FL | Hendry County, FL
Hernando County, FL | Hernando County, FL
Hialeah City, FL | Miami-Dade County, FL
Highlands County, FL | Highlands County, FL
Indian River County, FL | Indian River County, FL
Lauderdale Lakes City, FL | Broward County, FL
Levy County, FL | Levy County, FL
Manatee County, FL | Manatee County, FL
Miami City, FL | Miami-Dade County, FL
Miami Gardens City, FL | Miami-Dade County, FL
North Miami Beach City, FL | Miami-Dade County, FL
North Miami City, FL | Miami-Dade County, FL
North Port City, FL | Sarasota County, FL
Ocala City, FL | Marion County, FL
Okeechobee County, FL | Okeechobee County, FL
Palm Coast City, FL | Flagler County, FL
Pasco County, FL | Pasco County, FL
Pinellas Park City, FL | Pinellas County, FL
Plant City, FL | Hillsborough County, FL
Polk County, FL | Polk County, FL
Port St. Lucie City, FL | St. Lucie County, FL
Putnam County, FL | Putnam County, FL
Riviera Beach City, FL | Palm Beach County, FL
Sanford City, FL | Seminole County, FL
Georgia
Atkinson County, GA | Atkinson County, GA
Balance of Troup County, GA | Troup County, GA
Balance of Whitfield County, GA | Whitfield County, GA
Baldwin County, GA | Baldwin County, GA
Bartow County, GA | Bartow County, GA
Ben Hill County, GA | Ben Hill County, GA
Berrien County, GA | Berrien County, GA
Burke County, GA | Burke County, GA
Butts County, GA | Butts County, GA
Calhoun County, GA | Calhoun County, GA
Chattahoochee County, GA | Chattahoochee County, GA
Chattooga County, GA | Chattooga County, GA
Clayton County, GA | Clayton County, GA
Coffee County, GA | Coffee County, GA
Cook County, GA | Cook County, GA
Crisp County, GA | Crisp County, GA
Dalton City, GA | Whitfield County, GA
Decatur County, GA | Decatur County, GA
Douglasville City, GA | Douglas County, GA
East Point City, GA | Fulton County, GA
Elbert County, GA | Elbert County, GA
Franklin County, GA | Franklin County, GA
Gordon County, GA | Gordon County, GA
Hancock County, GA | Hancock County, GA
Haralson County, GA | Haralson County, GA
Hart County, GA | Hart County, GA
Heard County, GA | Heard County, GA
Irwin County, GA | Irwin County, GA
Jasper County, GA | Jasper County, GA
Jeff Davis County, GA | Jeff Davis County, GA
Jefferson County, GA | Jefferson County, GA
Jenkins County, GA | Jenkins County, GA
Johnson County, GA | Johnson County, GA
LaGrange City, GA | Troup County, GA
Lamar County, GA | Lamar County, GA
Lawrenceville City, GA | Gwinnett County, GA
Lumpkin County, GA | Lumpkin County, GA
Macon City, GA | Bibb County and Jones County, GA
Macon County, GA | Macon County, GA
McDuffie County, GA | McDuffie County, GA
Meriwether County, GA | Meriwether County, GA
Murray County, GA | Murray County, GA
Newton County, GA | Newton County, GA
Quitman County, GA | Quitman County, GA
Randolph County, GA | Randolph County, GA
Rome City, GA | Floyd County, GA
Schley County, GA | Schley County, GA
Screven County, GA | Screven County, GA
Spalding County, GA | Spalding County, GA
Statesboro City, GA | Bulloch County, GA
Stewart County, GA | Stewart County, GA
Sumter County, GA | Sumter County, GA
Taliaferro County, GA | Taliaferro County, GA
Taylor County, GA | Taylor County, GA
Telfair County, GA | Telfair County, GA
Treutlen County, GA | Treutlen County, GA
Turner County, GA | Turner County, GA
Upson County, GA | Upson County, GA
Warren County, GA | Warren County, GA
Washington County, GA | Washington County, GA
Wayne County, GA | Wayne County, GA
Wilcox County, GA | Wilcox County, GA
Wilkes County, GA | Wilkes County, GA
Idaho
Adams County, ID | Adams County, ID
Benewah County, ID | Benewah County, ID
Boundary County, ID | Boundary County, ID
Clearwater County, ID | Clearwater County, ID
Shoshone County, ID | Shoshone County, ID
Valley County, ID | Valley County, ID
Illinois
Alexander County, IL | Alexander County, IL
Alton City, IL | Madison County, IL
Balance of Boone County, IL | Boone County, IL
Balance of Kankakee County, IL | Kankakee County, IL
Balance of Vermilion County, IL | Vermilion County, IL
Balance of Winnebago County, IL | Winnebago County, IL
Belleville City, IL | St. Clair County, IL
Belvidere City, IL | Boone County, IL
Berwyn City, IL | Cook County, IL
Calumet City, IL | Cook County, IL
Carpentersville Village, IL | Kane County, IL
Chicago Heights City, IL | Cook County, IL
Cicero Town, IL | Cook County, IL
Clark County, IL | Clark County, IL
Clay County, IL | Clay County, IL
Danville City, IL | Vermilion County, IL
Decatur City, IL | Macon County, IL
Dolton Village, IL | Cook County, IL
East St. Louis City, IL | St. Clair County, IL
Elgin City, IL | Cook County and Kane County, IL
Fayette County, IL | Fayette County, IL
Franklin County, IL | Franklin County, IL
Freeport City, IL | Stephenson County, IL
Fulton County, IL | Fulton County, IL
Gallatin County, IL | Gallatin County, IL
Granite City, IL | Madison County, IL
Grundy County, IL | Grundy County, IL
Hancock County, IL | Hancock County, IL
Hanover Park Village, IL | Cook County and DuPage County, IL
Hardin County, IL | Hardin County, IL
Harvey City, IL | Cook County, IL
Johnson County, IL | Johnson County, IL
Joliet City, IL | Kendall County and Will County, IL
Kankakee City, IL | Kankakee County, IL
Lansing Village, IL | Cook County, IL
LaSalle County, IL | LaSalle County, IL
Macoupin County, IL | Macoupin County, IL
Marion County, IL | Marion County, IL
Mason County, IL | Mason County, IL
Maywood Village, IL | Cook County, IL
Montgomery County, IL | Montgomery County, IL
North Chicago City, IL | Lake County, IL
Ogle County, IL | Ogle County, IL
Park Forest Village, IL | Cook County and Will County, IL
Pekin City, IL | Tazewell County, IL
Perry County, IL | Perry County, IL
Pope County, IL | Pope County, IL
Pulaski County, IL | Pulaski County, IL
Putnam County, IL | Putnam County, IL
Rockford City, IL | Winnebago County, IL
Round Lake Beach Village, IL | Lake County, IL
Saline County, IL | Saline County, IL
Union County, IL | Union County, IL
Waukegan City, IL | Lake County, IL
Zion City, IL | Lake County, IL
Indiana
Adams County, IN | Adams County, IN
Anderson City, IN | Madison County, IN
Balance of Elkhart County, IN | Elkhart County, IN
Balance of Howard County, IN | Howard County, IN
Balance of Wayne County, IN | Wayne County, IN
Blackford County, IN | Blackford County, IN
Clay County, IN | Clay County, IN
Crawford County, IN | Crawford County, IN
Decatur County, IN | Decatur County, IN
DeKalb County, IN | DeKalb County, IN
East Chicago City, IN | Lake County, IN
Elkhart City, IN | Elkhart County, IN
Fayette County, IN | Fayette County, IN
Fulton County, IN | Fulton County, IN
Gary City, IN | Lake County, IN
Goshen City, IN | Elkhart County, IN
Hammond City, IN | Lake County, IN
Henry County, IN | Henry County, IN
Hobart City, IN | Lake County, IN
Huntington County, IN | Huntington County, IN
Jennings County, IN | Jennings County, IN
Kokomo City, IN | Howard County, IN
Kosciusko County, IN | Kosciusko County, IN
LaGrange County, IN | LaGrange County, IN
Lawrence County, IN | Lawrence County, IN
Marion City, IN | Grant County, IN
Marshall County, IN | Marshall County, IN
Miami County, IN | Miami County, IN
Michigan City, IN | LaPorte County, IN
Mishawaka City, IN | St. Joseph County, IN
Noble County, IN | Noble County, IN
Randolph County, IN | Randolph County, IN
Richmond City, IN | Wayne County, IN
Scott County, IN | Scott County, IN
South Bend City, IN | St. Joseph County, IN
Starke County, IN | Starke County, IN
Steuben County, IN | Steuben County, IN
Tipton County, IN | Tipton County, IN
Vermillion County, IN | Vermillion County, IN
Wabash County, IN | Wabash County, IN
Washington County, IN | Washington County, IN
Whitley County, IN
Whitley County, IN
Kansas
Kansas City, KS | Wyandotte County, KS
Kentucky
Allen County, KY | Allen County, KY
Balance of Christian County, KY | Christian County, KY
Barren County, KY | Barren County, KY
Bath County, KY | Bath County, KY
Bell County, KY | Bell County, KY
Boyle County, KY | Boyle County, KY
Bracken County, KY | Bracken County, KY
Breckinridge County, KY | Breckinridge County, KY
Butler County, KY | Butler County, KY
Carroll County, KY | Carroll County, KY
Carter County, KY | Carter County, KY
Clay County, KY | Clay County, KY
Cumberland County, KY | Cumberland County, KY
Edmonson County, KY | Edmonson County, KY
Elliott County, KY | Elliott County, KY
Estill County, KY | Estill County, KY
Fleming County, KY | Fleming County, KY
Fulton County, KY | Fulton County, KY
Gallatin County, KY | Gallatin County, KY
Garrard County, KY | Garrard County, KY
Grant County, KY | Grant County, KY
Grayson County, KY | Grayson County, KY
Green County, KY | Green County, KY
Harlan County, KY | Harlan County, KY
Hopkinsville City, KY | Christian County, KY
Jackson County, KY | Jackson County, KY
Knox County, KY | Knox County, KY
Larue County, KY | Larue County, KY
Lawrence County, KY | Lawrence County, KY
Lee County, KY | Lee County, KY
Leslie County, KY | Leslie County, KY
Lewis County, KY | Lewis County, KY
Lincoln County, KY | Lincoln County, KY
Lyon County, KY | Lyon County, KY
Magoffin County, KY | Magoffin County, KY
Marion County, KY | Marion County, KY
Martin County, KY | Martin County, KY
McCreary County, KY | McCreary County, KY
Meade County, KY | Meade County, KY
Menifee County, KY | Menifee County, KY
Metcalfe County, KY | Metcalfe County, KY
Monroe County, KY | Monroe County, KY
Montgomery County, KY | Montgomery County, KY
Morgan County, KY | Morgan County, KY
Muhlenberg County, KY | Muhlenberg County, KY
Nelson County, KY | Nelson County, KY
Nicholas County, KY | Nicholas County, KY
Owsley County, KY | Owsley County, KY
Pendleton County, KY | Pendleton County, KY
Powell County, KY | Powell County, KY
Rockcastle County, KY | Rockcastle County, KY
Russell County, KY | Russell County, KY
Simpson County, KY | Simpson County, KY
Todd County, KY | Todd County, KY
Trigg County, KY | Trigg County, KY
Trimble County, KY | Trimble County, KY
Union County, KY | Union County, KY
Washington County, KY | Washington County, KY
Wayne County, KY | Wayne County, KY
Whitley County, KY | Whitley County, KY
Wolfe County, KY | Wolfe County, KY
Louisiana
Concordia Parish, LA | Concordia Parish, LA
East Carroll Parish, LA | East Carroll Parish, LA
Morehouse Parish, LA | Morehouse Parish, LA
St. Helena Parish, LA | St. Helena Parish, LA
Tensas Parish, LA | Tensas Parish, LA
West Carroll Parish, LA | West Carroll Parish, LA
Maryland
Worcester County, MD | Worcester County, MD
Massachusetts
Fall River City, MA | Fall River City, MA
Fitchburg City, MA | Fitchburg City, MA
Gardner City, MA | Gardner City, MA
Holyoke City, MA | Holyoke City, MA
Lawrence City, MA | Lawrence City, MA
New Bedford City, MA | New Bedford City, MA
Southbridge Town, MA | Southbridge Town, MA
Springfield City, MA | Springfield City, MA
Michigan
Alcona County, MI | Alcona County, MI
Alger County, MI | Alger County, MI
Alpena County, MI | Alpena County, MI
Antrim County, MI | Antrim County, MI
Arenac County, MI | Arenac County, MI
Balance of Allegan County, MI | Allegan County, MI
Balance of Bay County, MI | Bay County, MI
Balance of Jackson County, MI | Jackson County, MI
Balance of Macomb County, MI | Macomb County, MI
Balance of Midland County, MI | Midland County, MI
Balance of Monroe County, MI | Monroe County, MI
Balance of Muskegon County, MI | Muskegon County, MI
Balance of Oakland County, MI | Oakland County, MI
Balance of St. Clair County, MI | St. Clair County, MI
Baraga County, MI | Baraga County, MI
Battle Creek City, MI | Calhoun County, MI
Bay City, MI | Bay County, MI
Bedford Township, (Monroe County), MI | Monroe County, MI
Benzie County, MI | Benzie County, MI
Berrien County, MI | Berrien County, MI
Blackman Charter Township,, MI | Jackson County, MI
Branch County, MI | Branch County, MI
Burton City, MI | Genesee County, MI
Cass County, MI | Cass County, MI
Charlevoix County, MI | Charlevoix County, MI
Cheboygan County, MI | Cheboygan County, MI
Chesterfield Township,, MI | Macomb County, MI
Chippewa County, MI | Chippewa County, MI
Clare County, MI | Clare County, MI
Clinton Charter Township, (Macomb County), MI | Macomb County, MI
Crawford County, MI | Crawford County, MI
Delta County, MI | Delta County, MI
Detroit City, MI | Wayne County, MI
Dickinson County, MI | Dickinson County, MI
East Lansing City, MI | Clinton County and Ingham County, MI
Eastpointe City, MI | Macomb County, MI
Emmet County, MI | Emmet County, MI
Ferndale City, MI | Oakland County, MI
Flint Charter Township,, MI | Genesee County, MI
Flint City, MI | Genesee County, MI
Gladwin County, MI | Gladwin County, MI
Gogebic County, MI | Gogebic County, MI
Grand Rapids City, MI | Kent County, MI
Grand Traverse County, MI | Grand Traverse County, MI
Gratiot County, MI | Gratiot County, MI
Harrison Charter Township,, MI | Macomb County, MI
Highland Park City, MI | Wayne County, MI
Hillsdale County, MI | Hillsdale County, MI
Holland Charter Township, (Ottawa County), MI | Ottawa County, MI
Holland City, MI | Ottawa County and Allegan County, MI
Houghton County, MI | Houghton County, MI
Huron County, MI | Huron County, MI
Inkster City, MI | Wayne County, MI
Ionia County, MI | Ionia County, MI
Iosco County, MI | Iosco County, MI
Iron County, MI | Iron County, MI
Jackson City, MI | Jackson County, MI
Kalamazoo City, MI | Kalamazoo County, MI
Kalkaska County, MI | Kalkaska County, MI
Keweenaw County, MI | Keweenaw County, MI
Lake County, MI | Lake County, MI
Lansing City, MI | Ingham County and Eaton County, MI
Lapeer County, MI | Lapeer County, MI
Lenawee County, MI | Lenawee County, MI
Lincoln Park City, MI | Wayne County, MI
Livingston County, MI | Livingston County, MI
Luce County, MI | Luce County, MI
Mackinac County, MI | Mackinac County, MI
Macomb Township,, MI | Macomb County, MI
Madison Heights City, MI | Oakland County, MI
Manistee County, MI | Manistee County, MI
Mason County, MI | Mason County, MI
Mecosta County, MI | Mecosta County, MI
Menominee County, MI | Menominee County, MI
Missaukee County, MI | Missaukee County, MI
Montcalm County, MI | Montcalm County, MI
Montmorency County, MI | Montmorency County, MI
Mount Morris Township,, MI | Genesee County, MI
Muskegon City, MI | Muskegon County, MI
Newaygo County, MI | Newaygo County, MI
Oak Park City, MI | Oakland County, MI
Oceana County, MI | Oceana County, MI
Ogemaw County, MI | Ogemaw County, MI
Ontonagon County, MI | Ontonagon County, MI
Orion Charter Township,, MI | Oakland County, MI
Osceola County, MI | Osceola County, MI
Oscoda County, MI | Oscoda County, MI
Otsego County, MI | Otsego County, MI
Pontiac City, MI | Oakland County, MI
Port Huron City, MI | St. Clair County, MI
Presque Isle County, MI | Presque Isle County, MI
Romulus City, MI | Wayne County, MI
Roscommon County, MI | Roscommon County, MI
Roseville City, MI | Macomb County, MI
Saginaw City, MI | Saginaw County, MI
Sanilac County, MI | Sanilac County, MI
Schoolcraft County, MI | Schoolcraft County, MI
Shelby Charter Township (Macomb County), MI | Macomb County, MI
Shiawassee County, MI | Shiawassee County, MI
Southfield City, MI | Oakland County, MI
St. Clair Shores City, MI | Macomb County, MI
St. Joseph County, MI | St. Joseph County, MI
Sterling Heights City, MI | Macomb County, MI
Taylor City, MI | Wayne County, MI
Tuscola County, MI | Tuscola County, MI
Van Buren County, MI | Van Buren County, MI
Warren City, MI | Macomb County, MI
Waterford Charter Township, MI | Oakland County, MI
Wexford County, MI | Wexford County, MI
White Lake Charter Township, MI | Oakland County, MI
Wyandotte City, MI | Wayne County, MI
Wyoming City, MI | Kent County, MI
Minnesota
Aitkin County, MN | Aitkin County, MN
Cass County, MN | Cass County, MN
Clearwater County, MN | Clearwater County, MN
Itasca County, MN | Itasca County, MN
Kanabec County, MN | Kanabec County, MN
Le Sueur County, MN | Le Sueur County, MN
Mille Lacs County, MN | Mille Lacs County, MN
Morrison County, MN | Morrison County, MN
Pine County, MN | Pine County, MN
Wadena County, MN | Wadena County, MN
Mississippi
Alcorn County, MS | Alcorn County, MS
Attala County, MS | Attala County, MS
Balance of Washington County, MS | Washington County, MS
Benton County, MS | Benton County, MS
Bolivar County, MS | Bolivar County, MS
Calhoun County, MS | Calhoun County, MS
Carroll County, MS | Carroll County, MS
Chickasaw County, MS | Chickasaw County, MS
Choctaw County, MS | Choctaw County, MS
Claiborne County, MS | Claiborne County, MS
Clarke County, MS | Clarke County, MS
Clay County, MS | Clay County, MS
Coahoma County, MS | Coahoma County, MS
Columbus City, MS | Lowndes County, MS
Franklin County, MS | Franklin County, MS
Greene County, MS | Greene County, MS
Greenville City, MS | Washington County, MS
Grenada County, MS | Grenada County, MS
Holmes County, MS | Holmes County, MS
Humphreys County, MS | Humphreys County, MS
Issaquena County, MS | Issaquena County, MS
Itawamba County, MS | Itawamba County, MS
Jefferson County, MS | Jefferson County, MS
Jefferson Davis County, MS | Jefferson Davis County, MS
Kemper County, MS | Kemper County, MS
Lawrence County, MS | Lawrence County, MS
Leflore County, MS | Leflore County, MS
Marshall County, MS | Marshall County, MS
Meridian City, MS | Lauderdale County, MS
Monroe County, MS | Monroe County, MS
Montgomery County, MS | Montgomery County, MS
Noxubee County, MS | Noxubee County, MS
Panola County, MS | Panola County, MS
Perry County, MS | Perry County, MS
Pontotoc County, MS | Pontotoc County, MS
Prentiss County, MS | Prentiss County, MS
Quitman County, MS | Quitman County, MS
Sharkey County, MS | Sharkey County, MS
Sunflower County, MS | Sunflower County, MS
Tallahatchie County, MS | Tallahatchie County, MS
Tippah County, MS | Tippah County, MS
Tishomingo County, MS | Tishomingo County, MS
Tunica County, MS | Tunica County, MS
Tupelo City, MS | Lee County, MS
Vicksburg City, MS | Warren County, MS
Walthall County, MS | Walthall County, MS
Wayne County, MS | Wayne County, MS
Webster County, MS | Webster County, MS
Wilkinson County, MS | Wilkinson County, MS
Winston County, MS | Winston County, MS
Yalobusha County, MS | Yalobusha County, MS
Yazoo County, MS | Yazoo County, MS
Missouri
Balance of Jackson County, MO | Jackson County, MO
Barton County, MO | Barton County, MO
Clark County, MO | Clark County, MO
Crawford County, MO | Crawford County, MO
Dallas County, MO | Dallas County, MO
Dunklin County, MO | Dunklin County, MO
Franklin County, MO | Franklin County, MO
Gasconade County, MO | Gasconade County, MO
Hickory County, MO | Hickory County, MO
Laclede County, MO | Laclede County, MO
Lincoln County, MO | Lincoln County, MO
Miller County, MO | Miller County, MO
Monroe County, MO | Monroe County, MO
Montgomery County, MO | Montgomery County, MO
Morgan County, MO | Morgan County, MO
Pemiscot County, MO | Pemiscot County, MO
Reynolds County, MO | Reynolds County, MO
Shannon County, MO | Shannon County, MO
St. Francois County, MO | St. Francois County, MO
St. Louis City, MO | St. Louis City, MO
Stone County, MO | Stone County, MO
Taney County, MO | Taney County, MO
Warren County, MO | Warren County, MO
Washington County, MO | Washington County, MO
Montana
Lincoln County, MT | Lincoln County, MT
Sanders County, MT | Sanders County, MT
Nevada
Balance of Clark County, NV | Clark County, NV
Balance of Washoe County, NV | Washoe County, NV
Carson City, NV | Carson City, NV
Douglas County, NV | Douglas County, NV
Las Vegas City, NV | Clark County, NV
Lyon County, NV | Lyon County, NV
North Las Vegas City, NV | Clark County, NV
Nye County, NV | Nye County, NV
Sparks City, NV | Washoe County, NV
Storey County, NV | Storey County, NV
New Jersey
Atlantic City, NJ | Atlantic County, NJ
Balance of Atlantic County, NJ | Atlantic County, NJ
Balance of Cumberland County, NJ | Cumberland County, NJ
Bayonne City, NJ | Hudson County, NJ
Berkeley Township, NJ | Ocean County, NJ
Camden City, NJ | Camden County, NJ
Cape May County, NJ | Cape May County, NJ
East Orange City, NJ | Essex County, NJ
Elizabeth City, NJ | Union County, NJ
Garfield City, NJ | Bergen County, NJ
Irvington Township, NJ | Essex County, NJ
Kearny Town, NJ | Hudson County, NJ
Manchester Township, NJ | Ocean County, NJ
Millville City, NJ | Cumberland County, NJ
Neptune Township,, NJ | Monmouth County, NJ
Newark City, NJ | Essex County, NJ
North Bergen Township, NJ | Hudson County, NJ
Passaic City, NJ | Passaic County, NJ
Paterson City, NJ | Passaic County, NJ
Pennsauken Township, NJ | Camden County, NJ
Perth Amboy City, NJ | Middlesex County, NJ
Plainfield City, NJ | Union County, NJ
Trenton City, NJ | Mercer County, NJ
Union City, NJ | Hudson County, NJ
Vineland City, NJ | Cumberland County, NJ
West New York Town, NJ | Hudson County, NJ
New Mexico
Balance of Sandoval County, NM | Sandoval County, NM
Luna County, NM | Luna County, NM
Mora County, NM | Mora County, NM
New York
Bronx County, NY | Bronx County, NY
Newburgh City, NY | Orange County, NY
Niagara Falls City, NY | Niagara County, NY
North Carolina
Alamance County, NC | Alamance County, NC
Alexander County, NC | Alexander County, NC
Alleghany County, NC | Alleghany County, NC
Anson County, NC | Anson County, NC
Ashe County, NC | Ashe County, NC
Balance of Burke County, NC | Burke County, NC
Balance of Cabarrus County, NC | Cabarrus County, NC
Balance of Caldwell County, NC | Caldwell County, NC
Balance of Catawba County, NC | Catawba County, NC
Balance of Cumberland County, NC | Cumberland County, NC
Balance of Davidson County, NC | Davidson County, NC
Balance of Edgecombe County, NC | Edgecombe County, NC
Balance of Gaston County, NC | Gaston County, NC
Balance of Guilford County, NC | Guilford County, NC
Balance of Iredell County, NC | Iredell County, NC
Balance of Lee County, NC | Lee County, NC
Balance of Mecklenburg County, NC | Mecklenburg County, NC
Balance of Nash County, NC | Nash County, NC
Balance of Pitt County, NC | Pitt County, NC
Balance of Rowan County, NC | Rowan County, NC
Balance of Wilson County, NC | Wilson County, NC
Beaufort County, NC | Beaufort County, NC
Bertie County, NC | Bertie County, NC
Bladen County, NC | Bladen County, NC
Caswell County, NC | Caswell County, NC
Cherokee County, NC | Cherokee County, NC
Chowan County, NC | Chowan County, NC
Cleveland County, NC | Cleveland County, NC
Columbus County, NC | Columbus County, NC
Edgecombe County, NC | Edgecombe County, NC
Gastonia City, NC | Gaston County, NC
Graham County, NC | Graham County, NC
Halifax County, NC | Halifax County, NC
Hickory City, NC | Burke County, Caldwell County and Catawba County, NC
Kannapolis City, NC | Cabarrus County and Rowan County, NC
Kinston City, NC | Lenoir County, NC
Lincoln County, NC | Lincoln County, NC
McDowell County, NC | McDowell County, NC
Mitchell County, NC | Mitchell County, NC
Montgomery County, NC | Montgomery County, NC
Northampton County, NC | Northampton County, NC
Person County, NC | Person County, NC
Richmond County, NC | Richmond County, NC
Robeson County, NC | Robeson County, NC
Rockingham County, NC | Rockingham County, NC
Rocky Mount City, NC | Edgecombe County and Nash County, NC
Rutherford County, NC | Rutherford County, NC
Salisbury City, NC | Rowan County, NC
Sanford City, NC | Lee County, NC
Scotland County, NC | Scotland County, NC
Stanly County, NC | Stanly County, NC
Statesville City, NC | Iredell County, NC
Surry County, NC | Surry County, NC
Swain County, NC | Swain County, NC
Thomasville City, NC | Davidson County, NC
Vance County, NC | Vance County, NC
Warren County, NC | Warren County, NC
Washington County, NC | Washington County, NC
Wilkes County, NC | Wilkes County, NC
Wilson City, NC | Wilson County, NC
Yancey County, NC | Yancey County, NC
North Dakota
Rolette County, ND | Rolette County, ND
Ohio
Adams County, OH | Adams County, OH
Ashland County, OH | Ashland County, OH
Ashtabula County, OH | Ashtabula County, OH
Balance of Mahoning County, OH | Mahoning County, OH
Balance of Miami County, OH | Miami County, OH
Balance of Muskingum County, OH | Muskingum County, OH
Balance of Richland County, OH | Richland County, OH
Balance of Trumbull County, OH | Trumbull County, OH
Balance of Wood County, OH | Wood County, OH
Barberton City, OH | Summit County, OH
Brown County, OH | Brown County, OH
Canton City, OH | Stark County, OH
Carroll County, OH | Carroll County, OH
Champaign County, OH | Champaign County, OH
Cleveland City, OH | Cuyahoga County, OH
Clinton County, OH | Clinton County, OH
Columbiana County, OH | Columbiana County, OH
Coshocton County, OH | Coshocton County, OH
Crawford County, OH | Crawford County, OH
Dayton City, OH | Montgomery County, OH
Defiance County, OH | Defiance County, OH
East Cleveland City, OH | Cuyahoga County, OH
Fulton County, OH | Fulton County, OH
Garfield Heights City, OH | Cuyahoga County, OH
Guernsey County, OH | Guernsey County, OH
Hardin County, OH | Hardin County, OH
Harrison County, OH | Harrison County, OH
Henry County, OH | Henry County, OH
Highland County, OH | Highland County, OH
Hocking County, OH | Hocking County, OH
Huber Heights City, OH | Miami County, OH
Huron County, OH | Huron County, OH
Jackson County, OH | Jackson County, OH
Jefferson County, OH | Jefferson County, OH
Lima City, OH | Allen County, OH
Lorain City, OH | Lorain County, OH
Mansfield City, OH | Richland County, OH
Maple Heights City, OH | Cuyahoga County, OH
Marion City, OH | Marion County, OH
Massillon City, OH | Stark County, OH
Meigs County, OH | Meigs County, OH
Middletown City, OH | Butler County and Warren County, OH
Monroe County, OH | Monroe County, OH
Morgan County, OH | Morgan County, OH
Noble County, OH | Noble County, OH
Ottawa County, OH | Ottawa County, OH
Paulding County, OH | Paulding County, OH
Perry County, OH | Perry County, OH
Pike County, OH | Pike County, OH
Preble County, OH | Preble County, OH
Riverside City, OH | Montgomery County, OH
Ross County, OH | Ross County, OH
Sandusky City, OH | Erie County, OH
Sandusky County, OH | Sandusky County, OH
Scioto County, OH | Scioto County, OH
Seneca County, OH | Seneca County, OH
Shelby County, OH | Shelby County, OH
Toledo City, OH | Lucas County, OH
Trotwood City, OH | Montgomery County, OH
Van Wert County, OH | Van Wert County, OH
Vinton County, OH | Vinton County, OH
Warren City, OH | Trumbull County, OH
Williams County, OH | Williams County, OH
Wyandot County, OH | Wyandot County, OH
Xenia City, OH | Greene County, OH
Youngstown City, OH | Mahoning County, OH
Zanesville City, OH | Muskingum County, OH
Oregon
Albany City, OR | Benton County and Linn County, OR
Balance of Deschutes County, OR | Deschutes County, OR
Balance of Jackson County, OR | Jackson County, OR
Balance of Josephine County, OR | Josephine County, OR
Balance of Lane County, OR | Lane County, OR
Balance of Linn County, OR | Linn County, OR
Balance of Marion County, OR | Marion County, OR
Bend City, OR | Deschutes County, OR
Columbia County, OR | Columbia County, OR
Coos County, OR | Coos County, OR
Crook County, OR | Crook County, OR
Curry County, OR | Curry County, OR
Douglas County, OR | Douglas County, OR
Grant County, OR | Grant County, OR
Grants Pass City, OR | Josephine County, OR
Harney County, OR | Harney County, OR
Jefferson County, OR | Jefferson County, OR
Klamath County, OR | Klamath County, OR
Lake County, OR | Lake County, OR
Malheur County, OR | Malheur County, OR
McMinnville City, OR | Yamhill County, OR
Medford City, OR | Jackson County, OR
Springfield City, OR | Lane County, OR
Union County, OR | Union County, OR
Wallowa County, OR | Wallowa County, OR
Pennsylvania
Allentown City, PA | Lehigh County, PA
Cameron County, PA | Cameron County, PA
Chester City, PA | Delaware County, PA
Elk County, PA | Elk County, PA
Forest County, PA | Forest County, PA
Fulton County, PA | Fulton County, PA
Hazleton City, PA | Luzerne County, PA
Mercer County, PA | Mercer County, PA
Potter County, PA | Potter County, PA
Reading City, PA | Berks County, PA
York City, PA | York County, PA
Rhode Island
Burrillville Town, RI | Burrillville Town, RI
Central Falls City, RI | Central Falls City, RI
Cranston City, RI | Cranston City, RI
East Providence City, RI | East Providence City, RI
Johnston Town, RI | Johnston Town, RI
North Providence Town, RI | North Providence Town, RI
Pawtucket City, RI | Pawtucket City, RI
Providence City, RI | Providence City, RI
West Warwick Town, RI | West Warwick Town, RI
Woonsocket City, RI | Woonsocket City, RI
South Carolina
Abbeville County, SC | Abbeville County, SC
Aiken City, SC | Aiken County, SC
Allendale County, SC | Allendale County, SC
Anderson City, SC | Anderson County, SC
Balance of Sumter County, SC | Sumter County, SC
Bamberg County, SC | Bamberg County, SC
Barnwell County, SC | Barnwell County, SC
Calhoun County, SC | Calhoun County, SC
Cherokee County, SC | Cherokee County, SC
Chester County, SC | Chester County, SC
Chesterfield County, SC | Chesterfield County, SC
Clarendon County, SC | Clarendon County, SC
Colleton County, SC | Colleton County, SC
Columbia City, SC | Lexington County and Richland County, SC
Darlington County, SC | Darlington County, SC
Dillon County, SC | Dillon County, SC
Fairfield County, SC | Fairfield County, SC
Florence City, SC | Florence County, SC
Georgetown County, SC | Georgetown County, SC
Goose Creek City, SC | Berkeley County, SC
Greenville City, SC | Greenville County, SC
Greenwood County, SC | Greenwood County, SC
Hampton County, SC | Hampton County, SC
Lancaster County, SC | Lancaster County, SC
Laurens County, SC | Laurens County, SC
Lee County, SC | Lee County, SC
Marion County, SC | Marion County, SC
Marlboro County, SC | Marlboro County, SC
McCormick County, SC | McCormick County, SC
Myrtle Beach City, SC | Horry County, SC
Newberry County, SC | Newberry County, SC
North Charleston City, SC | Charleston County and Dorchester County, SC
Oconee County, SC | Oconee County, SC
Orangeburg County, SC | Orangeburg County, SC
Rock Hill City, SC | York County, SC
Spartanburg City, SC | Spartanburg County, SC
Summerville Town, SC | Berkeley County, Charleston County and Dorchester County, SC
Sumter City, SC | Sumter County, SC
Union County, SC | Union County, SC
Williamsburg County, SC | Williamsburg County, SC
South Dakota
Buffalo County, SD | Buffalo County, SD
Dewey County, SD | Dewey County, SD
Shannon County, SD | Shannon County, SD
Tennessee
Balance of Maury County, TN | Maury County, TN
Bedford County, TN | Bedford County, TN
Benton County, TN | Benton County, TN
Bledsoe County, TN | Bledsoe County, TN
Campbell County, TN | Campbell County, TN
Cannon County, TN | Cannon County, TN
Carroll County, TN | Carroll County, TN
Chester County, TN | Chester County, TN
Claiborne County, TN | Claiborne County, TN
Clay County, TN | Clay County, TN
Cocke County, TN | Cocke County, TN
Columbia City, TN | Maury County, TN
Crockett County, TN | Crockett County, TN
Cumberland County, TN | Cumberland County, TN
Decatur County, TN | Decatur County, TN
Dyer County, TN | Dyer County, TN
Fayette County, TN | Fayette County, TN
Fentress County, TN | Fentress County, TN
Gallatin City, TN | Sumner County, TN
Gibson County, TN | Gibson County, TN
Giles County, TN | Giles County, TN
Grainger County, TN | Grainger County, TN
Greene County, TN | Greene County, TN
Grundy County, TN | Grundy County, TN
Hancock County, TN | Hancock County, TN
Hardeman County, TN | Hardeman County, TN
Hardin County, TN | Hardin County, TN
Hawkins County, TN | Hawkins County, TN
Haywood County, TN | Haywood County, TN
Henderson County, TN | Henderson County, TN
Henry County, TN | Henry County, TN
Hickman County, TN | Hickman County, TN
Houston County, TN | Houston County, TN
Humphreys County, TN | Humphreys County, TN
Jackson City, TN | Madison County, TN
Jackson County, TN | Jackson County, TN
Jefferson County, TN | Jefferson County, TN
Johnson County, TN | Johnson County, TN
Lake County, TN | Lake County, TN
Lauderdale County, TN | Lauderdale County, TN
Lawrence County, TN | Lawrence County, TN
Lewis County, TN | Lewis County, TN
Macon County, TN | Macon County, TN
Marion County, TN | Marion County, TN
Marshall County, TN | Marshall County, TN
McMinn County, TN | McMinn County, TN
McNairy County, TN | McNairy County, TN
Meigs County, TN | Meigs County, TN
Memphis City, TN | Shelby County, TN
Monroe County, TN | Monroe County, TN
Morgan County, TN | Morgan County, TN
Morristown City, TN | Hamblen County, TN
Overton County, TN | Overton County, TN
Perry County, TN | Perry County, TN
Pickett County, TN | Pickett County, TN
Polk County, TN | Polk County, TN
Rhea County, TN | Rhea County, TN
Scott County, TN | Scott County, TN
Sequatchie County, TN | Sequatchie County, TN
Smith County, TN | Smith County, TN
Stewart County, TN | Stewart County, TN
Tipton County, TN | Tipton County, TN
Trousdale County, TN | Trousdale County, TN
Unicoi County, TN | Unicoi County, TN
Van Buren County, TN | Van Buren County, TN
Warren County, TN | Warren County, TN
Wayne County, TN | Wayne County, TN
Weakley County, TN | Weakley County, TN
White County, TN | White County, TN
Texas
Balance of El Paso County, TX | El Paso County, TX
Balance of Hidalgo County, TX | Hidalgo County, TX
Balance of Maverick County, TX | Maverick County, TX
Balance of Webb County, TX | Webb County, TX
Eagle Pass City, TX | Maverick County, TX
Port Arthur City, TX | Jefferson County, TX
San Juan City, TX | Hidalgo County, TX
Morris County, TX | Morris County, TX
Newton County, TX | Newton County, TX
Presidio County, TX | Presidio County, TX
Sabine County, TX | Sabine County, TX
Starr County, TX | Starr County, TX
Willacy County, TX | Willacy County, TX
Zavala County, TX | Zavala County, TX
Virginia
Danville City, VA | Danville City, VA
Emporia City, VA | Emporia City, VA
Halifax County, VA | Halifax County, VA
Henry County, VA | Henry County, VA
Martinsville City, VA | Martinsville City, VA
Page County, VA | Page County, VA
Petersburg City, VA | Petersburg City, VA
Williamsburg City, VA | Williamsburg City, VA
Washington
Clark County, WA | Clark County, WA
Cowlitz County, WA | Cowlitz County, WA
Ferry County, WA | Ferry County, WA
Grays Harbor County, WA | Grays Harbor County, WA
Lewis County, WA | Lewis County, WA
Pacific County, WA | Pacific County, WA
Pend Oreille County, WA | Pend Oreille County, WA
Skamania County, WA | Skamania County, WA
Stevens County, WA | Stevens County, WA
Wahkiakum County, WA | Wahkiakum County, WA
West Virginia
Calhoun County, WV | Calhoun County, WV
Mason County, WV | Mason County, WV
Pocahontas County, WV | Pocahontas County, WV
Roane County, WV | Roane County, WV
Wetzel County, WV | Wetzel County, WV
Wirt County, WV | Wirt County, WV
Wisconsin
Beloit City, WI | Rock County, WI
Green Bay City, WI | Brown County, WI
Iron County, WI | Iron County, WI
Janesville City, WI | Rock County, WI
Menominee County, WI | Menominee County, WI
Racine City, WI | Racine County, WI
Rusk County, WI | Rusk County, WI
West Bend City, WI | Washington County, WI
Puerto Rico
Adjuntas Municipio, PR | Adjuntas Municipio, PR
Aguada Municipio, PR | Aguada Municipio, PR
Aguadilla Municipio, PR | Aguadilla Municipio, PR
Aguas Buenas Municipio, PR | Aguas Buenas Municipio, PR
Aibonito Municipio, PR | Aibonito Municipio, PR
Anasco Municipio, PR | Anasco Municipio, PR
Arecibo Municipio, PR | Arecibo Municipio, PR
Arroyo Municipio, PR | Arroyo Municipio, PR
Barceloneta Municipio, PR | Barceloneta Municipio, PR
Barranquitas Municipio, PR | Barranquitas Municipio, PR
Bayamon Municipio, PR | Bayamon Municipio, PR
Cabo Rojo Municipio, PR | Cabo Rojo Municipio, PR
Caguas Municipio, PR | Caguas Municipio, PR
Camuy Municipio, PR | Camuy Municipio, PR
Canovanas Municipio, PR | Canovanas Municipio, PR
Carolina Municipio, PR | Carolina Municipio, PR
Catano Municipio, PR | Catano Municipio, PR
Cayey Municipio, PR | Cayey Municipio, PR
Ceiba Municipio, PR | Ceiba Municipio, PR
Ciales Municipio, PR | Ciales Municipio, PR
Cidra Municipio, PR | Cidra Municipio, PR
Coamo Municipio, PR | Coamo Municipio, PR
Comerio Municipio, PR | Comerio Municipio, PR
Corozal Municipio, PR | Corozal Municipio, PR
Dorado Municipio, PR | Dorado Municipio, PR
Fajardo Municipio, PR | Fajardo Municipio, PR
Florida Municipio, PR | Florida Municipio, PR
Guanica Municipio, PR | Guanica Municipio, PR
Guayama Municipio, PR | Guayama Municipio, PR
Guayanilla Municipio, PR | Guayanilla Municipio, PR
Gurabo Municipio, PR | Gurabo Municipio, PR
Hatillo Municipio, PR | Hatillo Municipio, PR
Hormigueros Municipio, PR | Hormigueros Municipio, PR
Humacao Municipio, PR | Humacao Municipio, PR
Isabela Municipio, PR | Isabela Municipio, PR
Jayuya Municipio, PR | Jayuya Municipio, PR
Juana Diaz Municipio, PR | Juana Diaz Municipio, PR
Juncos Municipio, PR | Juncos Municipio, PR
Lajas Municipio, PR | Lajas Municipio, PR
Lares Municipio, PR | Lares Municipio, PR
Las Marias Municipio, PR | Las Marias Municipio, PR
Las Piedras Municipio, PR | Las Piedras Municipio, PR
Loiza Municipio, PR | Loiza Municipio, PR
Luquillo Municipio, PR | Luquillo Municipio, PR
Manati Municipio, PR | Manati Municipio, PR
Maricao Municipio, PR | Maricao Municipio, PR
Maunabo Municipio, PR | Maunabo Municipio, PR
Mayaguez Municipio, PR | Mayaguez Municipio, PR
Moca Municipio, PR | Moca Municipio, PR
Morovis Municipio, PR | Morovis Municipio, PR
Naguabo Municipio, PR | Naguabo Municipio, PR
Naranjito Municipio, PR | Naranjito Municipio, PR
Orocovis Municipio, PR | Orocovis Municipio, PR
Patillas Municipio, PR | Patillas Municipio, PR
Penuelas Municipio, PR | Penuelas Municipio, PR
Ponce Municipio, PR | Ponce Municipio, PR
Quebradillas Municipio, PR | Quebradillas Municipio, PR
Rincon Municipio, PR | Rincon Municipio, PR
Rio Grande Municipio, PR | Rio Grande Municipio, PR
Sabana Grande Municipio, PR | Sabana Grande Municipio, PR
Salinas Municipio, PR | Salinas Municipio, PR
San German Municipio, PR | San German Municipio, PR
San Juan Municipio, PR | San Juan Municipio, PR
San Lorenzo Municipio, PR | San Lorenzo Municipio, PR
San Sebastian Municipio, PR | San Sebastian Municipio, PR
Santa Isabel Municipio, PR | Santa Isabel Municipio, PR
Toa Alta Municipio, PR | Toa Alta Municipio, PR
Toa Baja Municipio, PR | Toa Baja Municipio, PR
Utuado Municipio, PR | Utuado Municipio, PR
Vega Alta Municipio, PR | Vega Alta Municipio, PR
Vega Baja Municipio, PR | Vega Baja Municipio, PR
Vieques Municipio, PR | Vieques Municipio, PR
Villalba Municipio, PR | Villalba Municipio, PR
Yabucoa Municipio, PR | Yabucoa Municipio, PR
Yauco Municipio, PR | Yauco Municipio, PR

[FR Doc. 2010-25565 Filed 10-8-10; 8:45 am]

BILLING CODE 4510-FT-P